FEDERAL COMMUNICATIONS COMMISSION

47 CFR Part 73

[MB Docket No. 20-334; RM-11864; DA 20-1435; FRS 17288]

Television Broadcasting Services; Portland, Oregon

AGENCY: Federal Communications Commission.

ACTION: Final rule.

SUMMARY: The Media Bureau, Video Division (Bureau) has before it a Notice of Proposed Rulemaking issued in response to a petition for rulemaking filed by Sander Operating Co. III LLC (Sander), licensee of KGW, channel 8, Portland, Oregon, requesting the substitution of channel 26 for channel 8 at Portland in the DTV Table of Allotments. The Bureau had instituted a freeze on the acceptance of rulemaking petitions by full power television stations requesting channel substitutions in May 2011 and waived the freeze to consider Sander's proposal to substitute channel 26 at Portland. TEGNA, Inc., filed comments in support of the petition reaffirming its commitment to applying for channel 26. The Bureau believes the public interest would be served by the substitution and will permit the station to better serve its viewers, who have experienced reception problems with VHF channel 8.

DATES: Effective December 28, 2020.

FOR FURTHER INFORMATION CONTACT: Joyce Bernstein, Media Bureau, at Joyce.Bernstein@fcc.gov.

SUPPLEMENTARY INFORMATION: This is a synopsis of the Commission's Report and Order, MB Docket No. 20-334; RM-11864; DA 20-1435, adopted and released on December 2, 2020. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law. 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional review Act, see 5 U.S.C. 801(a)(1)(A).

List of Subjects in 47 CFR Part 73

Television.

Federal Communications Commission.
Thomas Horan,
Chief of Staff, Media Bureau.

Final Rules

For the reasons discussed in the preamble, the Federal Communications Commission amends 47 CFR part 73 as follows:

PART 73—RADIO BROADCAST SERVICE

1. The authority citation for part 73 continues to read as follows:

Authority: 47 U.S.C. 154, 303, 334, 336, and 339.

§ 73.622 [Amended]

2. Section 73.622 is amended in paragraph (i), in the Post-Transition Table of DTV Allotments under Oregon, by removing channel 8 and adding channel 26 in numerical order at Portland.

[FR Doc. 2020-27218 Filed 12-23-20; 8:45 am]

BILLING CODE 6712-01-P